NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until April 15, 2003.

ADDRESSES: Interested parties are invited to submit written comments to NCUA Clearance Officer or OMB Reviewer listed below:

Clearance Officer: Mr. Neil McNamara (703) 518-6447, National Credit Union Administration, 1775 Duke Street, Alexandria, Virginia 22314-3428, Fax No. 703-518-6489, E-mail: mcnamara@ncua.gov.

OMB Reviewer: Mr. Joseph F. Lackey (202) 395-4741, Office of Management and Budget, Room 10226, New Executive Office Building, Washington, DC 20503.

FOR FURTHER INFORMATION CONTACT: Copies of the information collection requests, with applicable supporting documentation, may be obtained by calling the NCUA Clearance Officer, Neil McNamara, (703) 518-6447.

SUPPLEMENTARY INFORMATION: Proposal for the following collection of information:

OMB Number: 3133-0138.

Form Number: N/A.

Type of Review: Reinstatement, with change, of a previously approved collection for which approval has expired.

Title: Community Development Revolving Loan Program for Credit Union Application for Funds.

Description: NCUA requests this information from credit unions to assess financial ability to repay the loans and to ensure that the funds are used to benefit the institution and the community it serves. The respondents are financial institutions that serve specific membership groups.

Estimated No. of Respondents/Recordkeepers: 28.

Estimated Burden Hours Per Response: 9 hours.

Frequency of Response: Reporting, on occasion and annually.

Estimated Total Annual Burden Hours: 252 hours.

Estimated Total Annual Cost: $0.

By the National Credit Union Administration Board on February 10, 2003.
Becky Baker,
Secretary of the Board.

[FR Doc. 03-3710 Filed 2-13-03; 8:45 am]

BILLING CODE 7535-01-P